DEPARTMENT OF HEALTH AND HUMAN SERVICES

Administration for Children and Families

Delegation of Authority

AGENCY: Administration for Children and Families, HHS.

ACTION: Notice.

SUMMARY: Delegation of authorities are being redelegated from the Deputy Assistant Secretary, Office of Planning, Research and Evaluation (OPRE), Administration for Children and Families (ACF), to the Chief Technology Officer, Office of the Chief Technology Officer (CTO/ACF Tech), ACF. This action is necessary to complete the transition of the function of multi-program advance planning documents to the CTO/ACF Tech.

FOR FURTHER INFORMATION CONTACT: Kevin Duvall, Chief Technology Officer, Administration for Children and Families at (202) 401-5680.

SUPPLEMENTARY INFORMATION: The delegation of authorities for 45 CFR 95 subpart F are being redelegated consistent with the Statement of Organization, Functions, and Delegations of Authority as last amended, 87 FR 67693, November 8, 2022. Under the authority vested in the Assistant Secretary for Children and Families by memorandum from the Secretary, “Delegation of Authority to Approve State System Requests for Federal Financial Participation for the Costs of Automatic Data Processing Equipment and Services,” dated May 31, 1988, notice is hereby given that the Assistant Secretary for Children and Families has delegated to the ACF CTO the authorities under 45 CFR 95.611(a)(4), and as amended hereafter, to allow for the continued efficient operation of this approval function after it is transitioned from OPRE to the CTO/ACF Tech consistent with the CTO's reorganization.

Notice is hereby given that the CTO, and his or her successors, are granted the following authorities vested in the Secretary of Health and Human Services under 45 CFR 95.611(a)(4) by the memorandum dated November 9, 2017, that generally pertains to approval of Federal financial participation for the costs of automated data processing affecting multiple programs administered by ACF and the Centers for Medicare & Medicaid Services (CMS).

This delegation of authority applies to the following approval for multi-program state requests for federal financial participation for the costs of automated data processing equipment and services:

1. Requests related to programs under titles IV-B, IV-D, and IV-E of the Social Security Act (SSA), administered by ACF; and

2. Requests related to programs under titles XIX and XXI of the Social Security Act, administered by CMS, when submitted in combination with one or more of the programs under titles IV-B, IV-D, and IV-E of the SSA.

This authority may be redelegated. These authorities shall be exercised in accordance with established policies, procedures, guidelines, and regulations as prescribed by the Secretary. Notice is hereby given that Assistant Secretary January Contreras has affirmed and ratified any actions taken by the CTO of ACF, or his or her subordinates that involved the exercise of the authorities delegated herein prior to the effective date of this delegation. This delegation supersedes all existing delegations of these authorities. This delegation is effective immediately.

January Contreras,
Assistant Secretary for Children and Families.

[FR Doc. 2023-10291 Filed 5-12-23; 8:45 am]

BILLING CODE 4184-01-P